DEPARTMENT OF VETERANS AFFAIRS

Voluntary Service National Advisory Committee, Notice of Meeting

The Department of Veterans Affairs gives notice under Public Law 92-463 that the Executive Committee, Department of Veterans Affairs Voluntary Service (VAVS) National Advisory Committee (NAC) will meet October 24-25, 2000 at Double Tree Hotel at Reid Park, 445 South Alvernon Way, Tucson, AZ. The meeting is scheduled from 8 a.m. until 4:30 p.m. on October 24, 2000, and from 8 a.m. until 12 noon on October 25, 2000.

The NAC consists of sixty national organization and advises the Under Secretary for Health and other members of the Department of Veterans Affairs Central Office staff on how to coordinate and promote volunteer activities within VA facilities. The Executive Committee consists of nineteen representatives from the NAC member organizations and acts as the NAC governing body in the interim period between NAC Annual Meetings. Business topics for the October 24, 2000, morning session include: VHA update and a VAVS update of the Voluntary Service program's progress since the 2000 NAC Annual Meeting, Parke Board update, and review of the 2000 Annual Meeting Evaluations. The October 24, 2000, afternoon business session topics include: 55th Annual Meeting plans, and a tour of the Tucson, VAMC. The October 25, 2000, morning business session topics include: 2003 NAC Annual Meeting planning, membership report review recommendations approved at the 1999 NAC Annual Meeting, subcommittee reports, Standard Operating Procedure Revisions, New Business and EC Committee Appointments.

The meeting is open to the public. Individuals interested in attending are encouraged to contact: Ms. Laura Balun, Administrative Officer, Voluntary Service Office (10C2), Department of Veterans Affairs, 810 Vermont Avenue, NW, Washington, DC, 20420, (202) 273-8392.

Dated: September 27, 2000.
By Direction of the Secretary.
Marvin R. Eason,
Committee Management Officer.

[FR Doc. 00-25490 Filed 10-3-00; 8:45 am]

BILLING CODE 8320-01-M